ENVIRONMENTAL PROTECTION AGENCY

[OPP-2005-0006; FRL-7703-2]

Tribal Pesticide and Special Projects; Request for Proposals

AGENCY: Environmental Protection Agency (EPA).

ACTION: Notice.

SUMMARY: The Office of Pesticide Programs (OPP), in coordination with the EPA regional offices, is soliciting pesticide and special project proposals from eligible Tribes, Alaska native villages, and intertribal consortia for fiscal year (FY) 2005 funding. Under this program, cooperative agreement awards will provide financial assistance to eligible Tribal governments, Alaska native village governments, or intertribal consortia to carry out projects that assess or reduce risks to human health and the environment from pesticide exposure. The total amount of funding available for award in FY 2005 is expected to be approximately $445,000, with a maximum funding level of $50,000 per project.

DATES: Proposals must be received by EPA on or before 5 p.m. eastern standard time, June 13, 2005.

ADDRESSES: Proposals may be submitted to your EPA regional office by mail. An electronic copy of the proposal is also required and may be sent via e-mail to the regional contact. Please follow the detailed instructions provided in Unit V.1. of the Supplementary Information.

FOR FURTHER INFORMATION CONTACT: Georgia McDuffie, Field and External Affairs Division (7506C), Office of Pesticide Programs, Environmental Protection Agency, 1200 Pennsylvania Ave., NW., Washington, DC 20460-0001; telephone number: (703) 605-0195; e-mail address: mcduffie.georgia@epa.gov.

SUPPLEMENTARY INFORMATION:

Overview Information

The following listing provides certain key information concerning this funding opportunity.

• Federal agency name: Environmental Protection Agency.

• Funding opportunity title: Tribal Pesticide and Special Projects: Request for Proposals.

• Funding opportunity number: OPP-007.

• Announcement type: The initial announcement of a funding opportunity.

• Catalog of Federal Domestic Assistance (CFDA) number: This program is included in the Catalog of Federal Domestic Assistance under number 66.716 at http://www.cfda.gov.

• Dates: Applications must be received by EPA on or before June 13, 2005.

I. Funding Opportunity Description

A. Authority

EPA expects to enter into grants and cooperative agreements under the authority provided in the Federal Insecticide, Fungicide, and Rodenticide Act (FIFRA). Section 20 of FIFRA authorizes the Agency to issue grants or cooperative agreements for research, public education, training, monitoring, demonstration, and studies.

The award and administration of these grants will be governed by the Uniform Administrative Requirements for Grants and Cooperative Agreements to states, Tribes, and local governments set forth at 40 CFR part 31. Grants awarded pursuant to this solicitation are program grants subject to the regulations for “Environmental Program Grants for Tribes” set forth at 40 CFR 35.500-35.518. In addition, the provisions in 40 CFR part 32, governing government wide debarment and suspension, and the provisions in 40 CFR part 40, regarding restrictions on lobbying, apply.

All costs incurred under this program must be allowable under the applicable OMB Cost Circular A-87. Copies of this circular can be found at http://www.whitehouse.gov/omb/circulars/. In accordance with EPA policy and the OMB circular, any recipient of funding must agree not to use assistance funds for fund raising, or political activities such as lobbying members of Congress or lobbying for other Federal grants, cooperative agreements, or contracts. See 40 CFR part 40.

B. Program Description

1. Purpose and scope. Cooperative agreements awarded under this program are intended to provide financial assistance to eligible Tribal governments or intertribal consortia for projects that assess and/or reduce the risks of pesticide exposure to human health and the environment. For this solicitation, the word “Tribe” refers to federally recognized Tribes as well as to federally recognized Alaska native villages, and an intertribal consortium defined as a partnership of two or more federally recognized Tribes that is authorized by its membership to apply for, and receive, assistance under the Federal Insecticide, Fungicide, and Rodenticide Act (FIFRA).

Funds may be used to support new activities that fit the requirements of this solicitation. Projects may be targeted to any pesticide-related concern or need facing a Tribe or intertribal consortium. Although the proposal may request funding for activities that will further long-term objectives, this program provides one-time funding, and the maximum period of performance for funded activities is expected to be approximately 12 months.

2. Goal and objectives. EPA intends that recipients will use funding provided under this Tribal Pesticide and Special Project Program to help address the specific, pesticide-related concerns of their communities. The Agency will consider funding a broad range of projects that assess or reduce pesticide exposure risks to human health and the environment in Indian country.

3. History. Since 1997, EPA has provided funding for projects that supported pesticide management and water quality protection in Indian country. For the purposes of this solicitation, the term “Indian country” means:

(i) All land within the limits of any Indian reservation under the jurisdiction of the United States Government, notwithstanding the issuance of any patent, and including rights-of-way running throughout the reservation;

(ii) All dependent Indian communities within the borders of the United States, whether within the original or subsequently acquired territory thereof, and whether within or without the limits of the State; and

(iii) All Indian allotments, the Indian titles to which have not been extinguished, including rights-of-way running through the same.

4. EPA Strategic Plan Linkage and Anticipated Outcomes/Outputs.

i. Linkage to EPA Strategic Plan/GPRA Architecture. These assistance agreements will support progress towards EPA Strategic Plan Goal 4--Healthy Communities and Ecosystems; Objective 4.1--Chemical, Organism and Pesticide Risk; Program/Project 09--Categorical Grants: Pesticides Program Implementation (STAG).

ii. Outcomes. Through these agreements EPA hopes to work with the Tribes to assess and/or reduce risks to human health and the environment from pesticide exposure by funding projects that target areas of pesticide concern, i.e., water quality, exposure and risk assessment; effects of pesticides on cultural activities; integrated pest management, or alternatives to other pesticides.

iii. Outputs. The anticipated output of these tribal projects may include educational and outreach materials, conferences and training, and other programs, policies and activities that will result in the reduction of pesticide exposure.

Each year since 1997, EPA's Office of Pesticide Programs, in coordination with the EPA regional offices, has awarded approximately $445,000 annually to eligible Tribes and intertribal consortia for projects supporting pesticide management and water quality goals.

This Federal Register notice provides qualification and application requirements to parties who may be interested in submitting proposals for FY 2005 monies. The total amount available for award during this funding cycle is expected to be approximately $445,000. The maximum award amount per proposal is set at $50,000, and only one proposal per applicant will be accepted for consideration. Indirect cost rates will not increase the $50,000 maximum funding amount.

II. Award Information

Funding for each award recipient will be in the form of a cooperative agreement for $50,000 or less, under FIFRA section 20 and section 23(a)(1). Total funding available for award is expected to be approximately $445,000.

Should additional funding become available for award, the Agency may make additional monies available, based on this solicitation and in accordance with the final selection process, without further notice of competition. The Agency also reserves the right to decrease available funding for this program, or to make no awards based on this solicitation. All costs charged to these awards must be allowable under the applicable OMB Cost Circular, A-87 which may be found at http://www.whitehouse.gov/omb/circulars/.

III. Eligibility Information

1. Threshold eligibility factors. To be eligible for consideration, applicants must meet the following criteria. Failure to meet these criteria will result in the automatic disqualification of the proposal for consideration for funding:

• Be an applicant who is eligible to receive funding under this announcement, including federally recognized Tribal governments, federally recognized Alaska native villages, or an intertribal consortium (If you are applying as a consortium, you must provide verification of your eligibility according to the requirements of Unit I.B.1.). Only one project proposal may be submitted per applicant.

• The proposal must meet all format and content requirements contained in this Notice.

• The proposal submittal must comply with the directions for submittal contained in this Notice.

2. Eligibility criteria. Applicants will be evaluated on the following criteria:

i. Projects must be targeted to a pesticide concern or need facing a Tribe or intertribal consortium, including, but not limited to:

• Water quality.

• Development/support of exposure and risk assessment capacity.

• Traditional Tribal lifeways/subsistence. Effects of pesticides on cultural activities.

• Assessment of the need for and/or development of a pesticide management policy or plan.

• Consideration of integrated pest management, reduced pesticide use, or alternatives to pesticides.

• Sampling.

• Concerns associated with the return of culturally and spiritually significant items that may have been exposed to pesticides as part of historical preservation efforts by museums or other collectors.

• Noxious weed education materials and/or control alternatives.

• Public outreach/education materials relating to pest management and/or pesticide safety.

In addition, eligible proposals may be focused on the monitoring of surface water or ground water (e.g., assessing dietary exposure to pesticides via drinking water, determining those water bodies that may be impaired by pesticides, predicting potential exposure to endangered or threatened aquatic species, or establishing a baseline of contamination from which to measure progress toward future improvement in the environment).

Water quality projects may involve: (1) Information gathering; (2) baseline development including vulnerability assessment, identifying pesticides (from either on or off reservation sources) that are most likely to impact water quality; (3) providing information to pesticide users on ways they can assist in protecting the quality of water sources; (4) developing other measures that protect water from pesticides; or (5) developing projects aimed at preventing contamination of water sources, mitigating contaminated water sources or developing best management practices.

Other projects, not necessarily linked to water quality issues, may include: (1) Training on the establishment of Tribal pesticide codes; (2) creating and implementing a system for the proper disposal of pesticides, and/or; (3) educational outreach to the community on pesticide controls. Sampling projects may include soil sampling, residue sampling on culturally significant/medicinal plants, or sampling to determine the effects of pesticides on cultural activities, such as subsistence hunting and fishing.

Water quality and non-water quality pesticide-related projects are equally eligible for funding under this grant program. Reviewers will give additional consideration to proposals that recognize and build upon existing, publicly available, technical and educational information.

ii. Outcomes. Applicants must provide a description of expected outcomes. Nominees must be able to account for the environmental improvement that is expected to result from the project and adequately show how the project will be evaluated. Criteria by which the project will be judged and whether or not it will be considered a success should be incorporated into the description.

iii. Past awards and performance. Applicants must provide information, if the applicant has received project funding in prior years through the Office of Pesticide Programs Tribal grant program, that outcomes of prior projects were beneficial, sustainable, and/or transferable. If the applicant has never received an award under this grant program, that should be clearly noted. If unexpected barriers were encountered during the implementation of a prior project, those should be noted and briefly discussed as well.

3. Cost sharing and matching. There are no cost share requirements for this project.

IV. Application and Submission Information

1. Address to request proposal package. The applicant must submit the project proposal to the appropriate EPA regional contact, as listed below. One original, signed package must be sent by mail. An electronic copy of the proposal is also required and must be sent via e-mail to the regional contact. The proposal must be received by your EPA region no later than close of business, June 13, 2005. Incomplete or late proposals will be disqualified for funding consideration. Contact the appropriate regional staff person if you need assistance or have questions regarding the creation or submission of a project proposal. To ensure proper receipt by EPA, it is imperative that you identify docket ID number OPP-2005-0006 in the subject line on the first page of your proposal.

EPA regional Tribal pesticide contacts are as follows:

EPA Region I (Connecticut, Maine, New Hampshire, Rhode Island, Vermont). Rob Koethe, EPA Region I, One Congress St., Suite 1100, (CPT), Boston, MA 02114-2023, telephone: (617) 918-1535, fax: (617) 918-1505, e-mail: koethe.robert@epa.gov.

EPA Region II (New Jersey, New York, Puerto Rico, Virgin Islands). Tracy Truesdale, EPA Region II, U.S. EPA Facilities, Raritan Depot (MS500), 2890 Woodbridge Ave., Edison, NJ 08837-3679, telephone: (732) 906-6894, fax: (732) 321-6771, e-mail: truesdale.tracy@epa.gov.

EPA Region III (Delaware, Maryland, Pennsylvania, Virginia, West Virginia, District of Columbia). Fatima El Abdaoui, EPA Region III, Chestnut Building (3AT11), Philadelphia, PA 19107, telephone: (215) 814-2129, fax: (215) 814-3114, e-mail: el-abdaoui.fatima@epa.gov.

EPA Region IV (Alabama, Florida, Georgia, Kentucky, Mississippi, North Carolina, South Carolina, Tennessee). Randy Dominy, EPA Region IV, 61 Forsyth St., SW., Atlanta, GA 30303, telephone: (404) 562-8996, fax: (404) 562-8973, e-mail: dominy.randy@epa.gov.

EPA Region V (Illinois, Indiana, Michigan, Minnesota, Wisconsin). Meonii Crenshaw, EPA Region V, 77 West Jackson Boulevard (DT-8J), Chicago, IL 60604-3507, telephone: (312) 353-4716, fax: (312) 353-4788, e-mail: crenshaw.meonii@epa.gov.

EPA Region VI (Arkansas, Louisiana, New Mexico, Oklahoma, Texas). Jerry Collins, EPA Region VI, 1445 Ross Avenue, (6PD-P), Dallas, TX 75202-2733, telephone: (214) 665-7562, fax: (214) 665-7263, e-mail: collins.jerry@epa.gov.

EPA Region VII (Iowa, Kansas, Missouri, Nebraska). John Tice, EPA Region VII, 100 Centennial Mall N., Room 289, Lincoln, NE 68508, telephone: (402) 437-5080, fax: (402) 323-9079, e-mail: tice.john@epa.gov.

EPA Region VIII (Colorado, Montana, North Dakota, South Dakota, Utah, Wyoming). Margaret Collins, EPA Region VIII, 999 18th St., (8P-P3T), Denver, CO 80202-2466, telephone: (303) 312-6023, fax: (303) 312-6044, e-mail: collins.margaret@epa.gov.

EPA Region IX (Arizona, California, Hawaii, Nevada, American Samoa, the Commonwealth of the Northern Mariana Islands, Guam). Marcy Katzin, EPA Region IX, 75 Hawthorne St., (CMD 5), San Francisco, CA 94105, telephone: (415) 947-4215, fax: (415) 947-3583, e-mail: katzin.marcy@epa.gov.

EPA Region X (Alaska, Idaho, Oregon, Washington). Theresa Pimentel, EPA Region X, 1200 Sixth Avenue, (OCE-084), Seattle, WA 98101, telephone: (206) 553-0257, fax: (206) 553-1775, e-mail: pimentel.theresa@epa.gov.

2. Notification process. Regions will notify their respective applicants of the selections. Those applicants not awarded funds may request an explanation for the lack of award from EPA regional staff.

3. Content and form of proposal submission. Proposals must be typewritten, in 12 point or larger print, using 8.5 x 11 inch paper with minimum 1 inch horizontal and vertical margins. Pages must be numbered, in order starting with the cover page and continuing through the appendices. One original hard copy and one electronic copy (e-mail or disk) is required.

Your application package must include the following:

• Completed Standard Form SF 424, Application for Federal Assistance. Your organization fax number and e-mail address must be included. The application forms are available at http://www.epa/gov.ogd/grants/how_to_apply.htm.

• Completed Section B. Budget Categories on page 1 of Standard Form SF 424A. The estimated budget should outline costs for personnel, fringe benefits, travel, equipment, supplies, contractual, indirect cost rate, and any other costs associated with the proposed project.

• Detailed itemization of the amounts budgeted by individual Object Class Categories (see “allowable costs” discussion below).

• Statement regarding whether this proposal is a continuation of a previously funded project. If so, please provide the assistance number and status of the current grant/cooperative agreement.

• Cover page. Including descriptive project title.

• Executive summary. The executive summary shall be a stand alone document, not to exceed one page, containing the specifics of what is proposed and what you expect to accomplish regarding measuring or movement toward achieving project goals. This summary should identify the measurable environmental results you expect including potential human health benefits.

• Table of contents. A one page table listing the different parts of your proposal, including any appendices, and the page number on which each part begins.

• Proposal narrative. Includes Parts I-V as identified below (not to exceed 10 pages).

• Part I: Project title. Your proposal should be given a descriptive project title.

• Part II - Objectives. A number list (1, 2, etc.) of concisely written project objectives, in most cases, each objective can be stated in a single sentence.

• Part III - Justification. For each objective listed in Part II, discuss the potential outcome in terms of human health, environmental and/or pesticide risk reduction.

• Part IV - Approach and methods. Describe in detail how the program will be carried out. Describe how the system or approach will support the program goals.

• Part V - Impact assessment. In this section, describe how you will evaluate the success of the program in terms of measurable results. How and with what measures will human health and the environment be better protected as a result of the program. Quantifiable risk reduction measures should be described.

• Appendices. Appendices must be included as part of the proposal package and contain specific information that directly supports the likely ability of the applicant to successfully meet the performance requirements of this solicitation. Additional appendices are not permitted.

• Timetable (Draft work plan 1-2 pages). The timetable includes what will be accomplished in terms of milestones and goals and who is resposible for the achievement and should outline:

-- Description/list of deliverables.

-- The separate phases of the project.

-- The tasks associated with each phase of the project.

-- The time frames for completion of each phase or task.

The name, title of the person(s) who will conduct each phase or task. The dates when progress reports will be provided to EPA, clearly showing deliverables, accomplishments, delays and/or obstacles. (Project costs cannot be incurred until a final work plan has been approved by the appropriate EPA regional office.)

• Major participants. Brief resumes for each major project participant (not to exceed two pages) should be submitted in this appendix. The name, title of the person(s) who will conduct each phase or task.

• Letter or resolution from the Tribal leadership showing support for, and commitment to, the project should be submitted. (If it is not possible to obtain a letter/resolution from your Tribal leader to submit with your project proposal, an interim letter of explanation must be included with the proposal. An original letter/resolution from your Tribal leadership will be required prior to project award.) If the applicant is a consortium of federally recognized Tribes (as defined in Unit II.B.), a letter from the consortium leadership, on consortium letterhead, affirming consortium status and member Tribes' support for the project, must accompany the proposal.

• Letter of confirmation of availability for any other funds needed to complete the project. If your proposal requires the use of additional funds for leveraging, please include a letter from the funding source, confirming that these monies are available for the project. If the budget includes a Tribal in-kind contribution, a letter of confirmation is not needed.

• Additional information. Additional information, including maps, data tables, excerpts from studies, photographs, news media reports, or other documents should be included in appendices to the main project proposal, when they add significant supporting detail to the main proposal. Appendix titles, and their starting page numbers, should be included in the Table of Contents, just after the proposal cover page.

3. Submission dates and times. All applications must be submitted by mail. An electronic copy of the proposal is also required. It can be sent via e-mail to the regional contact. Regardless of submission method, all applications must be received by EPA on or before June 13, 2005.

4. Intergovernmental Review. All applicants should be aware that formal requests for assistance (i.e., SF 424 and associated documentation) may be subject to intergovernmental review under Executive Order 12372, “Intergovernmental Review of Federal Programs.” Applicants should contact their state's single point of contact (SPOC) for further information. There is a list of these contacts at the following web site: http:/whitehouse.gov/omb/grants/spoc.html.

5. Funding restrictions. Cooperative agreements awarded under this program are intended to provide financial assistance to eligible Tribal governments or intertribal consortia for projects that assess and/or reduce the risks of pesticide exposure to human health and the environment. EPA cooperative agreement funds may only be used for the purpose set forth in the agreement, and use must be consistent with the statutory authority for the award. Funds may not be used for matching funds for other Federal grants, lobbying, or intervention in Federal regulatory or adjudicatory proceedings. In addition, Federal funds may not be used to sue the Federal government or any other government entity. All costs identified in the budget must conform to the applicable Federal Cost Principles contained in OMB Circulars A-21, A-87, A-122, as appropriate.

6. Other submission requirements. Each application must include the original paper copy of the submission, as well as one electronic copy. The electronic copy of your application package, whether submitted via e-mail or on a disk, must be consolidated into a single Microsoft Word or Adobe PDF 5/6 file. If you send your electronic copy via e-mail, please identify it as “FY 2005 Proposal for Tribal Pesticide and Special Projects” on the subject line and attach it as an e-mail to the appropriate regional contact person listed in IV.1. Be sure you identify the proposal originator in the body of the e-mail, before the attachment, to enable us to match it with your hard copy. If mailing a disk, please use a 3.5 disk that is labeled as a proposal for the “FY 2005 Tribal Pesticide and Special Projects” and enclose it in the proposal package. For further information on submission, contact the EPA regional Tribal pesticide representative listed in Unit IV.1.

7. Confidential business information. In accordance with 40 CFR 2.203, applicants may claim all or a portion of their application/proposal as confidential business information. EPA will evaluate confidential claims in accordance with 40 CFR part 2. Applicants must clearly mark applications/proposals or portions of applications/proposals they claim as confidential. If no claim of confidentiality is made, EPA is not required to make the inquiry to the applicant otherwise required by 40 CFR 2.204(2) prior to disclosure.

V. Application Review Information

1. Review and selection process. Proposals will be reviewed and approved for validity and completeness by EPA regional office personnel. If the region determines that an application is incomplete, the proposal will not be considered further. The region will forward all complete proposal packages, along with regional comments, to an EPA review panel convened by the Office of Pesticide Programs. If necessary, the panel will consult with regional staff regarding proposal content and regional comments. If money remains after the award selection process is completed, the review team will determine the allocation of the remaining money. Final selections will be made by close of business 60 days after the closing date for receipt of proposals.

Applicants must submit information, as specified in this solicitation, to address award criteria. Applicants must also provide information specified in this solicitation that will assist EPA in assessing the Tribe's capacity to do the work outlined in the project proposal. The proposed work plan and budget should reflect activities that can realistically be completed during the period of performance of the cooperative agreement. Criteria that will be used to review, rank, and award funding are found below.

i. General background information requirement. Pesticide-related projects that address a wide variety of issues of concern to Indian country are eligible for funding under this grant program. If the applicant Tribe or consortium has previously received project funding from the Office of Pesticide Programs Tribal Grant Program, specific information about those funded projects should be included with this proposal, for example:

• What was the project?

• When was the award made, and for what dollar amount?

• What successes or barriers were encountered as the project moved forward?

• What outputs from previously funded OPP projects continue to provide benefits to the Tribe (e.g., retention of trained personnel, continued use of purchased equipment, accretion of baseline, sampling and analysis data)?

Information on projects previously funded by this OPP Tribal grant program may be provided in several ways: You may include descriptive language either in the narrative of the current proposal or as an appendix to the current proposal, or you may include a copy of the previous project's final report as an appendix to this proposal. The name of the EPA Project Officer for any projects previously funded under this grant program should also be included. If the applicant has never received funding under this grant program, that should be clearly noted in the proposal. Failure to address this information request may render your proposal non-responsive to this solicitation. If you have questions about this requirement, please contact your EPA region, or the person listed under FOR FURTHER INFORMATION CONTACT.

ii. Selection criteria. The proposals will be reviewed, evaluated, and ranked by a selected panel of EPA reviewers, based on the evaluation criteria and weighting factors that follow immediately below. (Total possible points: 100).

Criterion 1: Technical Qualifications, Overall Management Plan, Past Awards and Performance (25 Points)

• Does the person(s) designated to lead the project have the technical expertise he or she will need to successfully complete it? Does the project leader have experience in grant and project management?

• Proposals should provide complete information on the education, skills, training and relevant experience of the project leader. As appropriate, please cite technical qualifications and specific examples of prior, relevant experience. If this project will develop new Tribal capacity, describe how the project leader and/or staff will gain necessary training and expertise.

• To whom does the project leader report? What systems of accountability and management oversight are in place to ensure that this project stays on track?

• If previously performed work directly impacts this project, briefly describe the connection. If a directly relevant project is currently ongoing, what progress has been made? If this new project builds upon earlier efforts, how will the Tribe use the knowledge, data, and experience derived from previous projects to shape this new proposed activity?

• If appropriate, reviewers will give additional consideration to proposals that recognize and build upon existing, publicly available, technical and educational information.

Criterion 2: Justification for Need of the Project, Soundness of Technical Approach (30 Points)

To provide reviewers with context for your proposed project, and to assist them in gaining the clearest possible sense of the positive impact of this project on your Tribe and the environment, please briefly provide some information about your reservation:

• Specify the location, size, geography, and general climate of the reservation.

• About how many residents are Tribal members and how many are not Tribal members?

• How much of the reservation is under cultivation where pesticides are used?

• Does the reservation include wetlands or other natural resource preserves?

• If there is relevance to your project, briefly describe the Tribal and non-Tribal populations of surrounding counties/states, and surrounding land use.

• How many people (tribal/non-Tribal) are employed by the Tribal government (e.g., in government services, including environmental monitoring or management, health care, police and fire protection)?

• How many are employed on the reservation in other areas that use pesticides or may be impacted by their use (e.g., agriculture, animal husbandry, fisheries/fishing, forestry, construction, casinos/resorts/golf course maintenance, etc.)?

• If you are concerned about pesticide pollution that may originate within reservation boundaries, what are the potential sources and what chemicals might be involved?

• If you are concerned with pollution migration from off-reservation sources, what are those potential sources, and what chemicals are of specific concern?

• Is the Tribe concerned about water quality issues? If so, please describe the nature of these concerns.

• Does the Tribe currently have any pesticide policy or pesticide management program in place? If not is it seeking to establish a code?

• Why is this project important to the Tribe or the Tribal consortium? What environmental issues(s) will it address and how serious and/or pervasive are these issues? What is the expected outcome of the project? What benefits will this project bring to the Tribe in terms of human and environmental health?

• Has the tribe identified a need to coordinate or consult with other parties (Tribal and/or non-Tribal) to ensure the success of this project? If so, who are they and what is your plan to involve them? How will they be affected by the outcome of the project?

• What are the key outputs of this project? How do you propose to quantify and measure progress? Have interim milestones for this project been established? If so, what are they? How will you evaluate the success of the project in terms of measurable environmental results?

• Does your budget request accurately reflect the work you propose? Please provide a clear correlation between expenses and project objectives. Will EPA funding for this project be supplemented with funding from other source(s)? If so, please identify them.

• Please describe the steps you will take to ensure successful completion of the project. Provide a time-line and description of interim and final results and deliverables.

Criterion 3: Benefits, Sustainability, Transferable Results (30 Points)

Discuss if the results from this project will continue to provide benefits to the Tribe or other Tribes after the period of performance has expired and this funding is no longer available.

• How are the benefits of this effort expected to be sustained over time?

• Can the project results be incorporated into existing and/or future pesticide-related Tribal environmental activities?

• Are any of the deliverables, experiences, products, or outcomes resulting from the project transferable to other communities? Might this project readily be implemented by another Tribe?

• What ecological or human health benefits does this project provide? What quality of life issues does the project address?

• Does the project have limited or broad application to address risks related to pesticides?

• Does the applicant recognize a need for coordination between Tribal agencies and outside communities, and/or Federal, State or local agencies?

• Will the project help build Tribal infrastructure and capacity? How?

Criterion 4: Outcomes (15 Points)

The proposals will be scored based on how well they are supported by a clearly articulated set of performance and progress measures. Reviewers will evaluate the workplan in relation to its likelihood to achieve predicted environmental results, including the likelihood of attaining expected outcomes, reaching project goals, and producing on-the-ground, quantifiable environmental change. A description of expected outcomes must be included. Reviewer consideration included:

• What is the environmental improvement that is expected to result from the project?

• Does the applicant adequately show how the project will be evaluated?

• Has the applicant developed criteria by which the project will be judged and whether or not it will be considered a success?

iii. Selection official. The final funding decision will be made from the group of top rated proposals by the Chief of the Government and International Services Branch, Field and External Affairs Division, Office of Pesticide Programs. The Agency reserves the right to reject all proposals and make no awards.

iv. Disputes. Assistance agreement competition-related disputes will be resolved in accordance with the dispute resolution procedures published in the Federal Register of January 26, 2005 (70 FR 3629), which can be found at http://a257.g.akamaitech.net/7/257/ 2422/01jan20051800/edocket.access.gop.gov/2005/05-1371.htm. Copies of these procedures may also be requested by contacting the appropriate EPA Regional Tribal Coordinator listed in Unit IV.1.

VI. Award Administration Information

1. Notification process. Regions will notify their respective applicants of the selections. Those applicants not awarded funds may request an explanation for the lack of award from EPA regional staff.

2. Post-selection regulatory requirements. Selected applicants must negotiate a final work plan, including reporting requirements, with the designated EPA regional project officer. In addition, selected applicants must negotiate a final work plan, including reporting requirements, with the designated EPA regional project officer. For more general information on post award requirements and the evaluation of grantee performance, see 40 CFR part 31.

VII. Agency Contact

For additional information contact: Georgia McDuffie, Field and External Affairs Division (7506C), Office of Pesticide Programs, Environmental Protection Agency, 1200 Pennsylvania Ave., NW., Washington, DC 20460-0001; telephone number: (703) 305-6463; fax number: (703) 308-1850; e-mail address: mcduffie.georgia@epa.gov or contact the EPA regional Tribal pesticide representative listed in Unit IV.1.

VIII. Other Information

A. Does this Action Apply to Me?

Potentially affected entities include federally recognized Tribal governments, federally recognized Alaska native village governments, or qualified intertribal consortia. Only one project proposal from each Tribal government or intertribal consortium will be considered for funding. If you have any questions regarding the applicability of this action to a particular entity, consult the person listed under FOR FURTHER INFORMATION CONTACT.

B. How Can I Get Copies of this Document and Other Related Information?

1. Docket. EPA has established an official public docket for this action under docket identification (ID) number OPP-2005-0006. The official public docket is the collection of materials that is available for public viewing at the Public Information and Records Integrity Branch (PIRIB), Rm. 119, Crystal Mall #2, 1801 S. Bell St., Arlington VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit VIII.B.1. Once in the system, select “search,” then key in the appropriate docket ID number.

IX. Submission to Congress and the Comptroller General

Grant solicitations containing binding legal requirements are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to publication in the Federal Register. This rule is not a “major rule” as defined by 5 U.S.C. 804(2).

List of Subjects

Environmental protection, Grants, Pesticides, Training.

Dated: April 25, 2005.
Susan B. Hazen,
Acting Assistant Administrator, Office of Prevention, Pesticides and Toxic Substances.

[FR Doc. 05-8611 Filed 4-26-05; 2:19 pm]

BILLING CODE 6560-50-S